ENVIRONMENTAL PROTECTION AGENCY

[FRL-8489-8]

Notification of a Public Teleconference of the Science Advisory Board Drinking Water Committee

AGENCY: Environmental Protection Agency (EPA).

ACTION: Notice.

SUMMARY: The EPA Science Advisory Board (SAB) Staff Office is announcing a public teleconference of the SAB Drinking Water Committee (DWC) to discuss advisory activities for the coming year.

DATES: The SAB will hold a public teleconference on November 13, 2007. The teleconference will begin at 1 p.m. and end at 3 p.m. (Eastern Time).

Location: The teleconference will be conducted by telephone only.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the EPA SAB Web Site at: http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA's Office of Water has requested that the SAB DWC evaluate three Agency activities in the coming year. To acquaint the DWC with these activities, EPA will provide introductory briefings to the DWC on: (1) The Aircraft Drinking Water Rule; (2) the Drinking Water Draft Contaminant Candidate List 3; and (3) Waterborne Diseases: Measures to Link Drinking Water Programs to Public Health Outcomes. The Agency will offer these briefings to acquaint the DWC with the Agency's activities in preparation for future meetings. Preliminary background information on these activities follow.

Aircraft Drinking Water Rule—Under the Safe Drinking Water Act (SDWA), any interstate carrier conveyance (ICC) that regularly serves drinking water to an average of at least 25 individuals daily, at least 60 days per year, is subject to the National Primary Drinking Water Regulations (NPDWR). An ICC is a carrier which conveys passengers in interstate commerce. The classes of ICCs include airplanes, trains, buses, and water vessels. The U.S. EPA is responsible for developing and implementing the NPDWRs for all public water systems, including public water systems on ICCs. The existing NPDWRs were designed for traditional, stationary public water systems, not mobile aircraft water systems that are operationally very different. EPA is proposing an Aircraft Drinking Water Rule (ADWR) that only addresses aircraft within U.S. jurisdiction. However, EPA is also supporting an international effort led by the World Health Organization to develop international guidelines for aircraft drinking water. The proposed ADWR applies to the onboard water system only. The Food and Drug Administration is responsible for regulating the watering points that include the water cabinets, carts, trucks, and hoses from which aircraft board water. The Office of Water has asked the DWC to hold a future consultative meeting on this topic.

Drinking Water Contaminant Candidate List Draft Revisions—The 1996 Safe Drinking Water Act Amendments (SDWA) require EPA to (1) publish every five years a list of currently unregulated contaminants in drinking water that may pose risks (the Contaminant Candidate List or “CCL”), and (2) make determinations on whether or not to regulate at least five contaminants from that list on a staggered five year cycle. The list must be published after consultation with the scientific community, including the SAB, after notice and opportunity for public comment, and after consideration of the occurrence database established under section 1445(g) of the SDWA. The unregulated contaminants considered for the list must include, but are not limited to, substances referred to in section 101(14) of the Comprehensive Environmental Response, Compensation, and Liability Act of 1980 (CERCLA), and substances registered under the Federal Insecticide, Fungicide, and Rodenticide Act (FIFRA). Developing the Contaminant Candidate List is part of the process of identifying water-borne threats to public health that need to be addressed by the Agency. EPA published and finalized the first CCL (CCL1) on March 2, 1998 (63 FR 10273). CCL1 contained 50 chemicals and 10 microbial contaminants/groups and was developed using technical experts who reviewed readily available information. EPA consulted with the scientific community, including the SAB, on a process for developing the first CCL. EPA published and finalized the second CCL (CCL2) on February 24, 2005 (70 FR 9071). CCL2 carried forward the remaining 51 chemical and microbial contaminants/groups listed on CCL1. The Office of Water has asked the DWC to peer review the draft CCL 3 at a future meeting.

Waterborne Diseases: Measures to Link Drinking Water Programs to Public Health Outcomes—The EPA Office of Water (OW) submitted a draft Measure Development Plan to OMB in October, 2004. As identified in the plan, the focus of OW's activities is to develop a health-based performance measure built on sound scientific data that relates program actions to potential decrease in waterborne disease incidence. EPA's goal is to develop long-term measures that describe changes over time of disease due to drinking water contamination or changes in the occurrence of indicators of waterborne disease; the objective is to demonstrate the effectiveness of drinking water programs on acute and chronic disease related to microbes or other drinking water contaminants. The Office of Water is currently developing approaches to the health-based measure to include in the Agency's next Strategic Plan with input from the National Drinking Water Advisory Council and has asked the DWC to hold a future consultative meeting on this topic.

Availability of Materials: The draft agenda and other materials will be posted on the SAB Web Site at: http://www.epa.gov/sab prior to the teleconference.

Procedures for Providing Public Input: Interested members of the public may submit relevant written or oral information for the SAB to consider during the public teleconference and/or meeting. Oral Statements: In general, individuals or groups requesting an oral presentation at a public SAB teleconference will be limited to three minutes per speaker, with no more than a total of one-half hour for all speakers. To be placed on the public speaker list, interested parties should contact Dr. Sue Shallal, DFO, in writing (preferably via e-mail), by November 6, 2007, at the contact information noted above. Written Statements: Written statements should be received in the SAB Staff Office in accordance with the dates mentioned above so that the information may be made available to the SAB for their consideration prior to each teleconference. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the teleconference, to give EPA as much time as possible to process your request.

Dated October 25, 2007.
Anthony F. Maciorowski,
Deputy Director, EPA Science Advisory Board Staff Office.

[FR Doc. E7-21446 Filed 10-30-07; 8:45 am]

BILLING CODE 6560-50-P